DEPARTMENT OF THE INTERIOR

National Park Service

[NPS-WASO-BSD-FEES-18343; PPWOBSADF0, PFE00FESW.Z00000 (155)]

Proposed Information Collection; National Park Service Fee Envelopes

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before August 25, 2015.

ADDRESSES: Send your comments on the IC to Madonna L. Baucum, Information Collection Clearance Officer, National Park Service, 12201 Sunrise Valley Drive (Room 2C114, Mail Stop 242), Reston, VA 20192 (mail); or madonna_baucum@nps.gov (email). Please include “1024-New NPS Fee Envelopes” in the subject line of your comments.

FOR FURTHER INFORMATION CONTACT: To request additional information about this IC, contact Traci Kolc, National Park Service, 1201 I Street NW., Washington, DC 20005 (mail); or at traci_kolc@nps.gov (email); or at (202) 513-7096 (telephone). Please reference “1024-New Fee Envelopes” in your comments.

SUPPLEMENTARY INFORMATION:

I. Abstract

Every year millions of people visit units of the National Park System. At some of these sites, the public is required to pay a fee. Fees are charged to help cover the costs of operating and maintaining fee sites, areas, and facilities such as campgrounds. Two forms (NPS 10-935 and NPS 10-936) are used to pay the entrance fee and to collect campground fees, which assist National Park Service (NPS) personnel in improving facilities and services.

Federal Lands Recreation Enhancement Act (FLREA), Title VIII, Division J, of Public Law 108-447 (16 U.S.C. 6801-6814) authorizes the NPS within the Department of Interior to charge fees at Federal recreation sites which meet certain criteria and reinvest a majority of the revenues into enhancing the site. Recreation fees provide a vital source of revenue for improving facilities and services for visitors at a variety of public lands throughout the nation.

The information gathered via the Entrance Fee Envelope (NPS 10-935) and the Campground Fee Envelope (NPS 10-936) must be collected to ensure that visitors to units of the National Park System pay the required entrance and camping fees in certain locations for use of government facilities and services. The information requested on the envelopes includes the following:

Entrance Fee Envelope (NPS 10-935):

• Date

• Number in group

• Amount enclosed

• Interagency Annual/Senior/Access Pass number if applicable

• Vehicle License number and state

• Time

• Credit card type

• Credit card number

• Credit card expiration date

• Name

• Signature

• Day time phone number

• Fee rate you are paying—vehicle/per person/commercial

• Payment type check/cash/credit card

Campground Fee Envelope (NPS 10-936):

• Date

• Number in group

• Number of nights

• Amount enclosed

• Interagency Senior/Access Pass number if applicable

• Site number

• Vehicle License number and state

• Check type of camping unit

• Date of departure

• Credit card type

• Credit card number

• Name

• Credit card expiration date

• Signature

• Day time phone number

• Payment type check/cash/credit card

II. Data

OMB Control Number: 1024-New.

Title: National Park Service Fee Envelopes.

Service Form Number(s):

• NPS Form 10-935 “Entrance Fee Envelope”

• NPS Form 10-936 “Campground Fee Envelope”

Type of Request: New.

Description of Respondents: Individuals who wish to enter units of the National Park System and/or utilize NPS campground facilities.

Respondent's Obligation: Required to obtain or retain a benefit.

Frequency of Collection: On occasion (each time an individual visits and pays an entrance fee or an overnight camping fee).

Activity | Estimated annual number of responses | Estimated completion time per response (minutes) | Estimated total annual burden hours
NPS Form 10-935 “Entrance Fee Envelope” | 50,000 | 5 | 4,167
NPS Form 10-936 “Campground Fee Envelope” | 600,000 | 5 | 50,000
TOTALS | 650,000 |  | 54,167

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: June 22, 2015.
Madonna L. Baucum,
Information Collection Clearance Officer, National Park Service.

[FR Doc. 2015-15767 Filed 6-25-15; 8:45 am]

BILLING CODE 4310-70-P